DEPARTMENT OF STATE

[Public Notice 11463]

U.S. Stakeholder; Notice of Meeting

AGENCY: Department of State.

ACTION: Notice of meeting.

SUMMARY: The Department of State (Department) will host a virtual, open, U.S. stakeholders meeting, with remote participation only, to share information and obtain U.S. stakeholder input about the possible launch of negotiations to develop a global instrument to address ocean plastic pollution. There will be no in-person option for this meeting.

DATES: This U.S. stakeholder meeting will be held virtually on Tuesday, August 10, 2021, from 2 p.m. to 5 p.m. Eastern Daylight Time. Participants must register prior to the meeting at this link: https://statedept.webex.com/statedept/j.php?RGID=r8f86337987086e15d01f9d0f0059bd91.

The Department welcomes verbal comments from U.S. stakeholders during this meeting, with a time limit of two minutes per speaker. Written comments will not be accepted. There may be additional U.S. stakeholder meetings on this topic in the future: If you would like to be notified of future U.S. stakeholder meetings on this topic, please send your name, email address, and affiliation (if any) no later than 30 days after date of this notice to Jeneva Craig at the address below.

FOR FURTHER INFORMATION CONTACT: Jeneva Craig, Program Management Analyst, U.S. Department of State, 2201 C Street NW, Room 2726, Washington, DC 20520, (202) 531-3065, craigja@state.gov.

A participant requesting reasonable accommodation should notify Alea S. Ortiguerra, Conference Coordinator, U.S. Department of State, 2025 E Street NW, Washington, DC 20006, (202) 316-4874, OrtiguerraAS@state.gov.

SUPPLEMENTARY INFORMATION: The United Nations Environment Assembly (UNEA) has been considering how to combat ocean plastic pollution since its first meeting in 2014. UNEA is expected to discuss the possible launch of negotiations to develop a new global instrument to address this topic at the second meeting of the fifth session of UNEA (UNEA 5.2), tentatively scheduled for February 28 to March 2, 2022.

The U.S. Government is considering policy and legal issues related to this process, and the Department is seeking U.S. stakeholder input to inform our deliberations, particularly on the following questions:

• Should the United States support the development of a global instrument on ocean plastic pollution?

• If so, what should be the scope and objective(s) of such an instrument? What problem(s) or issue(s) should such an instrument address?

• What should be the form of such an instrument? For example, should it be a legal instrument with legally binding and non-legally binding provisions or a voluntary instrument?

• Should it take a top-down structure (i.e., common approach required for all countries s) or a bottom-up structure (i.e., common objectives but allowance for flexible approaches to national implementation)?

• What could be an impactful role for stakeholders other than national governments, such as sub-national governments, industry, and civil society, in connection with this instrument?

• What other factors should be considered in negotiating such an instrument, such as the role of waste management, the role of any financial mechanism and/or technical assistance, flexibility for national circumstances, consideration of the full lifecycle of plastics, and economic and environmental impacts of alternatives to plastic?

• What sorts of provisions would be important or essential to include in a global instrument focused on ocean plastic pollution? What sorts of provisions would be problematic if they were included in such a global instrument?

Zachary A. Parker,
Director, Office of Directives Management, U.S. Department of State.

[FR Doc. 2021-14803 Filed 7-12-21; 8:45 am]

BILLING CODE 4710-09-P